NATIONAL LABOR RELATIONS BOARD

Sunshine Act Meetings: August 2012

TIME AND DATES: All meetings are held at 2:30 p.m.

Wednesday, August 1; Thursday, August 2; Tuesday, August 7; Wednesday, August 8; Thursday, August 9; Tuesday, August 14; Wednesday, August 15; Thursday, August 16; Tuesday, August 21; Wednesday, August 22; Thursday, August 23; Tuesday, August 28; Wednesday, August 29; Thursday, August 30.

PLACE: Board Agenda Room, No. 11820, 1099 14th St. NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Lester A. Heltzer, Executive Secretary, (202) 273-1067.

Dated: July 26, 2012.
Lester A. Heltzer,
Executive Secretary.

[FR Doc. 2012-18688 Filed 7-27-12; 11:15 am]

BILLING CODE 7545-01-P